DEPARTMENT OF THE TREASURY

Office of the Comptroller of the Currency

12 CFR Chapter I

[Docket ID FFIEC-2014-0001]

FEDERAL RESERVE SYSTEM

12 CFR Chapter II

[Docket No. R-1510]

FEDERAL DEPOSIT INSURANCE CORPORATION

12 CFR Chapter III

Regulatory Publication and Review Under the Economic Growth and Regulatory Paperwork Reduction Act of 1996

AGENCY: Office of the Comptroller of the Currency (“OCC”), Treasury; Board of Governors of the Federal Reserve System (“Board”); and Federal Deposit Insurance Corporation (“FDIC”).

ACTION: Notice of regulatory review; request for comments.

SUMMARY: The OCC, Board, and FDIC (each an “Agency”; together “we” or “Agencies”) are conducting a review of the regulations we have issued in order to identify outdated or otherwise unnecessary regulatory requirements imposed on insured depository institutions, as required by the Economic Growth and Regulatory Paperwork Reduction Act of 1996 (EGRPRA). EGRPRA requires the Agencies to organize the regulations into categories and publish groups of categories for comment. In this notice, the Agencies are seeking public comment on regulations in the following categories: Consumer Protection; Directors, Officers and Employees; and Money Laundering.

In addition, in order to be as inclusive as possible, the Agencies are expanding the scope of the EGRPRA review to include newly issued rules. The Agencies will solicit comment on all rules finalized by the Agencies before the publication of the last EGRPRA notice in the series, which we intend to publish by the end of this year. We have included with today's notice a chart that lists additional rules in their respective categories, to which we will add any other rules issued prior to the final EGRPRA notice. The public also may comment on these rules at any time during an open comment period.

DATES: Written comments must be received by no later than September 3, 2015.

ADDRESSES: Any interested individual may submit comments through the EGRPRA Web site during open comment periods at: http://egrpra.ffiec.gov/submit-comment/submit-comment-index.html. On this site, click “Submit a Comment” and follow the instructions. Alternatively, comments also may be submitted through the Federal eRulemaking Portal “Regulations.gov” at: http://www.regulations.gov. Enter “Docket ID FFIEC-2014-0001” in the Search Box, click “Search,” and click “Comment Now.” Those who wish to submit their comments by an alternate means may do so as indicated by each Agency below.

OCC:

The OCC encourages commenters to submit comments through the Federal eRulemaking Portal, Regulations.gov, in accordance with the previous paragraph. Alternatively, comments may be emailed to regs.comments@occ.treas.gov or sent by mail to Legislative and Regulatory Activities Division, Office of the Comptroller of the Currency, Mail Stop 9W-11, 400 7th Street SW., Washington, DC 20219. Comments also may be faxed to (571) 465-4326 or hand delivered or sent by courier to 400 7th Street SW., Washington, DC 20219. For comments submitted by any means other than Regulations.gov, you must include “OCC” as the Agency name and “Docket ID FFIEC-2014-0001” in your comment.

In general, the OCC will enter all comments received into the docket and publish them without change on Regulations.gov. Comments received, including attachments and other supporting materials, as well as any business or personal information you provide, such as your name and address, email address, or phone number, are part of the public record and subject to public disclosure. Therefore, please do not include any information with your comment or supporting materials that you consider confidential or inappropriate for public disclosure.

You may inspect and photocopy in person all comments received by the OCC at 400 7th Street SW., Washington, DC 20219. For security reasons, the OCC requires that visitors make an appointment to inspect or photocopy comments. You may make an appointment by calling (202) 649-6700. Upon arrival, visitors will be required to present valid government-issued photo identification and submit to a security screening.

Board:

The Board encourages commenters to submit comments regarding the Board's regulations by any of the following methods:

• Agency Web site: http://www.federalreserve.gov/apps/foia/proposedregs.aspx. Follow the instructions for submitting comments on the Agency Web site.

• Federal eRulemaking Portal, in accordance with the directions above.

• Email: regs.comments@federalreserve.gov. Include “EGRPRA” and Docket No. R-1510 in the subject line of the message.

• FAX: (202) 452-3819.

• Mail: Robert deV. Frierson, Secretary, Board of Governors of the Federal Reserve System, 20th Street and Constitution Avenue NW., Washington, DC 20551.

In general, the Board will enter all comments received into the docket and publish them without change on the Board's public Web site, www.federalreserve.gov; Regulations.gov; and http://egrpra.ffiec.gov. Comments received, including attachments and other supporting materials, as well as any business or personal information you provide, such as your name and address, email address, or phone number, are part of the public record and subject to public disclosure. Therefore, please do not enclose any information with your comment or supporting materials that you consider confidential or inappropriate for public disclosure.

You may inspect and photocopy in person all comments received by the Board in Room 3515, 1801 K Street NW. (between 18th and 19th Street NW.), Washington, DC 20006, between 9:00 a.m. and 5:00 p.m. on weekdays. For security reasons, the Board requires that visitors make an appointment to inspect comments. You may make an appointment by calling (202) 452-3000. Upon arrival, visitors will be required to present valid government-issued photo identification and submit to a security screening.

FDIC:

The FDIC encourages commenters to submit comments through the Federal eRulemaking Portal, “Regulations.gov,” in accordance with the directions above. Alternatively, you may submit comments by any of the following methods:

• Agency Web site: http://www.fdic.gov/regulations/laws/federal. Follow instructions for submitting comments on the Agency Web site.

• Email: Comments@FDIC.gov. Include “EGRPRA” in the subject line of the message.

• Mail: Robert E. Feldman, Executive Secretary, Attention: Comments, Federal Deposit Insurance Corporation, 550 17th Street NW., Washington, DC 20429.

• Hand Delivery/Courier: Guard station at the rear of the 550 17th Street Building (located on F Street) on business days between 7 a.m. and 5 p.m. (EDT).

The FDIC will post all comments received to http://www.fdic.gov/regulations/laws/federal without change, including any personal information provided. Comments may be inspected and photocopied in the FDIC Public Information Center, 3501 North Fairfax Drive, Room E-1002, Arlington, VA 22226, between 9 a.m. and 5 p.m. (EDT) on business days. Paper copies of public comments may be ordered from the Public Information Center by calling (877) 275-3342.

FOR FURTHER INFORMATION CONTACT: OCC: Karen McSweeney, Counsel (202) 649-6295; Heidi M. Thomas, Special Counsel, (202) 649-5490; Rima Kundnani, Attorney, (202) 649-5545; for persons who are deaf or hard of hearing, TTY (202) 649-5597.

Board: Claudia Von Pervieux, Counsel (202) 452-2552; Matthew Bornfreund, Attorney (202) 452-3818; for persons who are deaf or hard of hearing, TTY (202) 263-4869.

FDIC: Ruth R. Amberg, Assistant General Counsel, (202) 898-3736; Ann Taylor, Supervisory Counsel (202) 898-3573; for persons who are deaf or hard of hearing, TTY 1-800-925-4618.

SUPPLEMENTARY INFORMATION:

I. Introduction

Section 2222 of EGRPRA ¹ requires that, not less frequently than once every 10 years, the Federal Financial Institutions Examination Council (FFIEC),² along with the Agencies,³ conduct a review of their regulations to identify outdated or otherwise unnecessary requirements imposed on insured depository institutions.⁴ The EGRPRA regulatory review provides an opportunity for the public and the Agencies to look at groups of related regulations and to identify opportunities for burden reduction. For example, the EGRPRA review may facilitate the identification of statutes and regulations that share similar goals or complementary methods where one or more Agencies could eliminate overlapping requirements. Alternatively, commenters may identify regulations or statutes that impose requirements that are no longer consistent with the way that business is conducted and that the Agencies should eliminate or revise.

¹ Public Law 104-208 (1996), codified at 12 U.S.C. 3311.

² The FFIEC is an interagency body empowered to prescribe uniform principles, standards, and report forms for the Federal examination of financial institutions and to make recommendations to promote uniformity in the supervision of financial institutions. The FFIEC does not issue regulations that impose burden on financial institutions and, therefore, we have not separately captioned the FFIEC in this notice.

³ The FFIEC is comprised of the OCC, Board, FDIC, National Credit Union Administration (NCUA), Consumer Financial Protection Bureau (CFPB), and State Liaison Committee. Of these, only the OCC, Board, and FDIC are statutorily required to undertake the EGRPRA review. The NCUA elected to participate in the first EGRPRA review 10 years ago, and the NCUA Board again has elected to participate in this review process. Consistent with its approach during the first EGRPRA review, NCUA will separately issue notices and requests for comment on its rules. The CFPB is required to review its significant rules and publish a report of its review no later than five years after they take effect. See 12 U.S.C. 5512(d). This process is separate from the EGRPRA process.

⁴ Insured depository institutions also are subject to regulations that are not required to be reviewed under the EGRPRA process. Examples include rules for which rulemaking authority has transferred to the CFPB and anti-money laundering regulations issued by the Department of the Treasury's Financial Crimes Enforcement Network, among others. If, during the EGRPRA review, the Agencies receive a comment about a regulation that is not subject to the EGRPRA review, we will forward that comment to the appropriate agency.

In addition to providing an opportunity to consider burden reduction generally, the EGRPRA review also provides the Agencies and the public with an opportunity to consider burden reduction on community banks and other small, insured depository institutions or holding companies. We are keenly aware of the role that these institutions play in providing consumers and businesses across the nation with essential financial services and access to credit, and we are concerned about the impact of regulatory burden on these smaller institutions. We understand that when an Agency issues a new regulation or amends a current regulation, smaller institutions may have to devote considerable resources to determine if and how the regulation will affect them. Through the public comment process, the EGRPRA review can help the Agencies identify and target regulatory changes to reduce unnecessary burden on these smaller institutions.

Burden reduction must, however, be consistent with the Agencies' statutory mandates, many of which require the issuance of regulations. These mandates include ensuring the safety and soundness of insured depository institutions, their affiliates, and the financial system as a whole. EGRPRA recognizes that effective burden reduction may require legislative change. Accordingly, as part of this review, we specifically ask the public to comment on the relationships among burden reduction, regulatory requirements, and statutory mandates.

In addition, we note that the Agencies consider potential regulatory burden each time we propose, adopt, or amend a rule. For example, under the Paperwork Reduction Act of 1995 and the Regulatory Flexibility Act, the Agencies assess each rulemaking with respect to the burdens the rule might impose. Furthermore, we invite the public to comment on every rule we propose, as required by the Administrative Procedure Act (APA).

II. The EGRPRA Review Process

Taken together for purposes of EGRPRA, the Agencies' regulations covering insured depository institutions encompass more than 100 subjects.⁵ Consistent with the EGRPRA statute, the Agencies grouped these regulations into the following 12 regulatory categories: Applications and Reporting; Banking Operations; Capital; Community Reinvestment Act; Consumer Protection; ⁶ Directors, Officers and Employees; International Operations; Money Laundering; Powers and Activities; Rules of Procedure; Safety and Soundness; and Securities. To determine these categories, we divided the regulations by type and sought to have no category be too large or broad.

⁵ Consistent with EGRPRA's focus on reducing burden on insured depository institutions, the Agencies have not included their internal, organizational, or operational regulations in this review.

⁶ As we have previously noted, the Agencies are seeking comment only on those consumer protection regulations for which we retain rulemaking authority for insured depository institutions and regulated holding companies following passage of section 1061 of the Dodd-Frank Wall Street Reform and Consumer Protection Act, Public Law 111-203 (2010) (Dodd-Frank Act), codified at 12 U.S.C. 5581(b).

To carry out the EGRPRA review, the Agencies will publish four Federal Register notices, each addressing one or more categories of rules. Each Federal Register notice will have a 90-day comment period. On June 4, 2014, the Agencies published the first such notice, seeking comment on three categories of rules: Applications and Reporting, Powers and Activities, and International Operations.⁷ On February 13, 2015, the Agencies published the second notice, seeking comment on three additional categories of rules: Banking Operations, Capital, and the Community Reinvestment Act.⁸ Today, we are publishing the third notice, addressing the categories of Consumer Protection; Directors, Officers and Employees; and Money Laundering. We invite the public to identify outdated, otherwise unnecessary, or unduly burdensome regulatory requirements imposed on insured depository institutions and their holding companies in these three categories. Chart A in Section IV lists the Agencies' rules that fall within these categories.

⁷ 79 FR 32172 (First Notice).

⁸ 80 FR 7980 (Second Notice).

After comments have been received, the Agencies will review the comments and decide whether further action is appropriate with respect to the regulations. The Agencies will make this decision jointly in the case of rules that we have issued on an interagency basis. Similarly, we will undertake any rulemaking to amend or repeal those rules on an interagency basis. For rules issued by an Agency, the issuing Agency will review the comments received and independently determine whether amendments to or repeal of its rules are appropriate. If so, that Agency will initiate a rulemaking to effect such change. In all cases, the Agencies will provide the public with an opportunity to comment on any proposed amendment to or repeal of a regulation, as required by the APA.

Further, as part of the EGRPRA review, the Agencies are holding a series of outreach meetings to provide an opportunity for bankers, consumer and community groups, and other interested persons to present their views directly to senior management and staff of the Agencies on any of the categories of regulations in the EGRPRA review. More information about the outreach meetings can be found on the Agencies' EGRPRA Web site, http://egrpra.ffiec.gov.

Finally, EGRPRA also requires the FFIEC or the Agencies to publish in the Federal Register a summary of the comments received, identifying significant issues raised and commenting on these issues. It also directs the Agencies to eliminate unnecessary regulations to the extent that such action is appropriate. The statute additionally requires the FFIEC to submit to Congress a report that summarizes any significant issues raised in the public comments and the relative merits of such issues. The report also must include an analysis of whether the Agencies are able to address the regulatory burdens associated with such issues or whether these burdens must be addressed by legislative action.

III. The Agencies' Expansion of the Scope of the EGRPRA Review

To be as inclusive as possible, the Agencies are expanding the scope of the EGRPRA review to include rules that the Agencies have recently finalized (Newly Listed Rules), including those issued pursuant to the Dodd-Frank Act and the recent domestic capital and liquidity rules. We will seek specific comment on these Newly Listed Rules in the fourth EGRPRA Federal Register notice, which we plan to issue by the end of this year. (There are no Newly Listed Rules in the three categories covered by this notice.) As noted below, the Agencies will also accept comment at any time on any of our regulations during an open comment period as part of the EGRPRA process.

The Agencies have identified the Newly Listed Rules and placed them into the 12 categories established for this review. Chart B in Section IV contains these Newly Listed Rules. Prior to the publication of the fourth and final notice of the EGRPRA review, the Agencies will add to the Newly Listed Rules any additional rules finalized by that time. Furthermore, it has been the practice of the Agencies to accept comments on any of the Agencies' rules during the EGRPRA review. We will continue this practice and accept comments at any time during an open comment period on any of the rules of the Agencies, including those contained in Charts A and B, as well as those rules published in the prior Federal Register notices.

IV. Request for Burden Reduction Comments on Regulations in the Consumer Protection; Directors, Officers and Employees; and Money Laundering Categories

As stated previously in this notice, the Agencies are asking the public to comment on regulations in the Consumer Protection; Directors, Officers and Employees; and Money Laundering categories to identify outdated or otherwise unnecessary regulatory requirements imposed on insured depository institutions and their regulated holding companies. Where possible, we ask commenters to cite specific regulatory language or provisions. We also welcome suggested alternative provisions or language in support of a comment, where appropriate. Where implementation of a suggestion would require modification of a statute, we ask the commenter to identify the statute and the needed change, where possible.

Specific issues for commenters to consider. The Agencies specifically invite comment on the following issues as they pertain to the Agencies' Consumer Protection; Directors, Officers and Employees; and Money Laundering rules addressed in this notice.

• Need for statutory change. (1) Do any statutory requirements underlying the rules in these categories impose outdated or otherwise unnecessary regulatory requirements? (2) If so, please identify the statutes and indicate how they should be amended.

• Need and purpose of the regulations. (1) Have there been changes in the financial services industry, consumer behavior, or other circumstances that cause any regulations in these categories to be outdated or otherwise unnecessary? (2) If so, please identify and indicate how they should be amended. (3) Do any of these regulations impose burdens not required by their underlying statutes? (4) If so, please identify the regulations and indicate how they should be amended.

• Overarching approaches/flexibility. (1) With respect to the regulations in these categories, could an Agency use a different approach to lessen the burden imposed by the regulations and achieve statutory intent? (2) Do any of these rules impose unnecessarily inflexible requirements? (3) If so, please identify the regulations and indicate how they should be amended.

• Effect on competition. (1) Do any of the regulations or underlying statutes create competitive disadvantages for one part of the financial services industry compared to another or for one type of insured depository institution compared to another? (2) If so, please identify the regulations and indicate how they should be amended.

• Reporting, recordkeeping and disclosure requirements. (1) Do any of the regulations or underlying statutes in these categories impose outdated or otherwise unnecessary reporting, recordkeeping, or disclosure requirements on insured depository institutions or their holding companies? (2) Could a financial institution fulfill any of these requirements electronically (if it is not already permitted to do so) and experience burden reduction? (3) If so, please identify the regulations and indicate how they should be amended.

• Unique characteristics of a type of institution. (1) Do any of the regulations or underlying statutes in these categories impose requirements that are unwarranted by the unique characteristics of a particular type of insured depository institution or holding company? (2) If so, please identify the regulations and indicate how they should be amended.

• Clarity. (1) Are the regulations in these categories clear and easy to understand? (2) Are there specific regulations for which clarification is needed? (3) If so, please identify the regulations and indicate how they should be amended.

• Burden on community banks and other smaller, insured depository institutions. (1) Are there regulations or underlying statutes in these categories that impose outdated or otherwise unnecessary requirements on a substantial number of community banks or other smaller, insured depository institutions or holding companies? (2) Have the Agencies issued regulations pursuant to a common statute that, as applied by the Agencies, create redundancies or impose inconsistent requirements? (3) Should any of these regulations be amended or repealed in order to minimize this impact? (4) If so, please identify the regulations and indicate how they should be amended.

• Scope of rules. (1) Is the scope of each rule in these categories consistent with the intent of the underlying statute(s)? (2) Could we amend the scope of a rule to clarify its applicability or reduce burden, while remaining faithful to statutory intent? (3) If so, please identify the regulations and indicate how they should be amended.

Subject | National banks | State member banks | State non-member banks | Federal savings associations | State savings associations | BHCs & FHCs SLHCs
7. Consumer Protection ⁹
Interagency Regulations
Consumer Protection in Sales of Insurance | 12 CFR Part 14 | 12 CFR Part 208, Subpart H [Reg. H] | 12 CFR Part 343 | 12 CFR Part 14 | 12 CFR Part 390, Subpart I |
Fair Housing | 12 CFR Part 27 |  | 12 CFR Part 338 | 12 CFR Part 128 (including other non-discrimination requirements) | 12 CFR Part 390, Subpart G |
Loans in Identified Flood Hazard Areas | 12 CFR Part 22 | 12 CFR 208.25 [Reg. H] (See also proposal to amend Part 208 at 78 FR 65108 (Oct. 30, 2013)) | 12 CFR Part 339 (See also proposal to amend Part 339 at 78 FR 65108 (Oct. 30, 2013)). | 12 CFR Part 172 | 12 CFR Part 391, Subpart D (See also proposal to apply proposed amendments to Part 339 to state savings associations at 78 FR 65108 (Oct. 30, 2013)) |
Prohibition Against Use of Interstate Branches Primarily for Deposit Production | 12 CFR Part 25, Subpart E | 12 CFR 208.7 [Reg. H] | 12 CFR Part 369 |  |  |
Safeguarding Customer Information | 12 CFR Part 30, Appx. B | 12 CFR Part 208, Appx. D-2 [Reg. H] | 12 CFR Part 364, Appx. B | 12 CFR Part 30, Appx. B | 12 CFR 391.14, Appx. B | 12 CFR Part 225, Appx. F [Reg. Y].
Fair Credit Reporting Act: Duties of Users of Consumer Reports Regarding Address Discrepancies Records Disposal | 12 CFR Part 41, Subpart I | 12 CFR Part 222, Subpart I [Reg. V] | 12 CFR Part 334, Subpart I | 12 CFR Part 41, Subpart I | 12 CFR Part 391, Subpart C |
Fair Credit Reporting Act: Consumer Information and Identity Theft Red Flags | 12 CFR Part 41, Subpart J | 12 CFR Part 222, Subpart J [Reg. V] | 12 CFR Part 334, Subpart J | 12 CFR Part 41, Subpart J | 12 CFR Part 391, Subpart C |
OCC Regulations
Federal Savings Association Advertising |  |  |  | 12 CFR 163.27 |  |
Federal Savings Association Tying Restriction Exception |  |  |  | 12 CFR 163.36 |  |
FDIC Regulations
State Savings Association Tying Restriction Exception |  |  |  |  | 12 CFR 390.335 |
Advertisement of Membership | 12 CFR Part 328 | 12 CFR Part 328 | 12 CFR Part 328 | 12 CFR Part 328 | 12 CFR Part 328 (See also 12 CFR 390.333) |
Deposit Insurance Coverage | 12 CFR Part 330 | 12 CFR Part 330 | 12 CFR Part 330 | 12 CFR Part 330 | 12 CFR Part 330 (See also 12 CFR 390.231) |
Certification of Assumption of Deposits and Notification of Changes of Insured Status | 12 CFR Part 307 | 12 CFR Part 307 | 12 CFR Part 307 | 12 CFR Part 307 | 12 CFR Part 307 (See also 12 CFR 390.332) |
8. Directors, Officers and Employees
Interagency Regulations
Disclosure of Financial Information | 12 CFR Part 18 |  | 12 CFR Part 350 |  |  |
Golden Parachute and Indemnification Programs | 12 CFR Part 359 | 12 CFR Part 359 | 12 CFR Part 359 | 12 CFR Part 359 (See also 12 CFR 145.121) | 12 CFR Part 359 | 12 CFR Part 359. 12 CFR Part 359.
Limits on Extensions of Credit to Executive Officers, Directors and Principal Shareholders; Related Disclosure Requirements | 12 CFR Part 31 | 12 CFR Part 215 [Reg. O] | 12 CFR 337.3; 12 CFR Part 349 | 12 CFR 163.43 | 12 CFR 390.338 |
Management Official Interlocks | 12 CFR Part 26 | 12 CFR Part 212 [Reg. L] | 12 CFR Part 348 | 12 CFR Part 26 | 12 CFR Part 390, Subpart V | 12 CFR Part 212 [Reg. L]. 12 CFR Part 238, Subpart J [Reg. LL].
OCC Regulations
National Bank Activities and Operations—Corporate Practices | 12 CFR Part 7, Subpart B |  |  |  |  |
Federal Savings Association Board of Directors Composition |  |  |  | 12 CFR 163.33 |  |
Federal Savings Association Bond Coverage |  |  |  | 12 CFR 163.190-.191 |  |
Federal Savings Association Employment Contracts, Compensation, Pension Plans |  |  |  | 12 CFR 163.39; 12 CFR 163.47; 12 CFR 163.161 |  |
Federal Savings Association Restrictions on Transactions with Officers, Directors, and Others |  |  |  | 12 CFR 160.130; 12 CFR 163.200-.201 |  |
FDIC Regulations
State Savings Association Directors, Officers, and Employees |  |  |  |  | 12 CFR 390.334 |
State Savings Association Bond Coverage |  |  |  |  | 12 CFR 390.356-.357 |
State Savings Association Employment Contracts, Compensation, Pension Plans |  |  |  |  | 12 CFR 390.336; 12 CFR 390.332; 12 CFR 390.339 |
State Savings Association Restrictions on Transactions with Officers, Directors, and Others |  |  |  |  | 12 CFR 390.269 |
9. Money Laundering
Interagency Regulations
Bank Secrecy Act Compliance | 12 CFR Part 21, Subpart C | 12 CFR 208.63 [Reg. H] | 12 CFR Part 326, Subpart B | 12 CFR 21, Subpart C | 12 CFR 390.354 |
Reports of Crimes or Suspected Crimes | 12 CFR Part 21, Subpart B | 12 CFR 208.62-.63 [Reg. H] | 12 CFR Part 353 | 12 CFR 163.180(d) | 12 CFR 390.355 | 12 CFR 225.4(f) [Reg. Y].
1. Applications and Reporting
Board Regulations
Concentration Limits | 12 CFR Part 251 [Reg. XX] | 12 CFR Part 251 [Reg. XX] | 12 CFR Part 251 [Reg. XX] | 12 CFR Part 251 [Reg. XX] | 12 CFR Part 251 [Reg. XX] | 12 CFR Part 251 [Reg. XX]. 12 CFR Part 251 [Reg. XX].
2. Powers and Activities
Interagency Regulations
Proprietary Trading and Relationships with Covered Funds | 12 CFR Part 44 | 12 CFR Part 248 [Reg. VV] | 12 CFR Part 351 | 12 CFR Part 44 | 12 CFR Part 351 | 12 CFR Part 248 [Reg. VV]. 12 CFR Part 248 [Reg. VV].
Retail Foreign Exchange Transactions | 12 CFR Part 48 | 12 CFR Part 240 [Reg. NN] | 12 CFR Part 349 | 12 CFR Part 48 | 12 CFR Part 349 | 12 CFR Part 240 [Reg. NN].
Board Regulations
Proprietary Trading and Relationships with Covered Funds |  |  |  |  |  | 12 CFR Part 225, Subpart K [Reg. Y]. 12 CFR Part 225, Subpart K [Reg. Y].
3. International Operations
Board Regulations
Foreign Banking Organizations: Stress Tests, Risk Committee, and Enhanced Prudential Standards |  |  |  |  |  | 12 CFR Part 252 Subparts L-O [Reg. YY].
Swaps Entities |  | 12 CFR Part 237 [Reg. KK] |  |  |  | 12 CFR Part 237 [Reg. KK].
4. Banking Operations
Board Regulations
Assessment of Fees |  |  |  |  |  | 12 CFR Part 246 [Reg. TT]. 12 CFR Part 246 [Reg. TT].
Debit Card Interchange Fees | 12 CFR Part 235 [Reg. II] | 12 CFR Part 235 [Reg. II] | 12 CFR Part 235 [Reg. II] | 12 CFR Part 235 [Reg. II] | 12 CFR Part 235 [Reg. II] |
5. Capital
Interagency Regulations
Capital Adequacy: General Ratio and Buffers Definition of Capital Transition | 12 CFR Part 3, Subparts A-C, G-J | 12 CFR Part 217, Subparts A-C, G [Reg. Q] | 12 CFR Part 324, Subparts A-C, G [Previously found in 12 CFR Part 325] | 12 CFR Part 3, Subparts A-C, G-J | 12 CFR Part 324, Subparts A-C, G [Previously found in 12 CFR Part 390, Subpart Z] | 12 CFR Part 217, Subparts A-C, G [Reg. Q]. 12 CFR Part 217, Subparts A-C, G [Reg. Q].
Capital Adequacy: Risk-Weighted Assets—Standardized Approach | 12 CFR Part 3, Subpart D | 12 CFR Part 217, Subpart D [Reg. Q] | 12 CFR Part 324, Subpart D [Previously found in 12 CFR Part 325 Appx. A] | 12 CFR Part 3, Subpart D | 12 CFR Part 324, Subpart D [Previously found in 12 CFR Part 390, Subpart Z, Appx. A] | 12 CFR Part 217, Subpart D [Reg. Q]. 12 CFR Part 217, Subpart D [Reg. Q].
Capital Adequacy: Risk-Weighted Assets—Advanced Measurement Approaches | 12 CFR Part 3, Subpart E | 12 CFR Part 217, Subpart E [Reg. Q] | 12 CFR Part 324, Subpart E [Previously found in 12 CFR Part 325 Appx. D] | 12 CFR Part 3, Subpart E | 12 CFR Part 324, Subpart E [Previously found in 12 CFR Part 390, Subpart Z, Appx. A] | 12 CFR Part 217, Subpart E [Reg. Q]. 12 CFR Part 217, Subpart E [Reg. Q].
Capital Adequacy: Risk-Weighted Assets—Market Risk | 12 CFR Part 3, Subpart F | 12 CFR Part 217, Subpart F [Reg. Q] | 12 CFR Part 324, Subpart F [Previously found in 12 CFR Part 325 Appx. C] | 12 CFR Part 3, Subpart F | 12 CFR Part 324, Subpart F [Previously found in 12 CFR Part 390, Subpart Z, Appx. A] | 12 CFR Part 217, Subpart F [Reg. Q]. 12 CFR Part 217, Subpart F [Reg. Q].
Capital Adequacy Guidelines | 12 CFR Part 3, Appx. A and B | 12 CFR Part 208, Appx. A, B, and E [Reg. H] | 12 CFR Part 324 [Previously found in 12 CFR Part 325 Appx. A-D] | 12 CFR Part 3, Appx. A and B | 12 CFR Part 324 [Previously found in 12 CFR Part 390, Subpart Z, Appx. A] | 12 CFR Part 225, Appx. A, B, D, and E [Reg. Y].
Prompt Corrective Action | 12 CFR Part 6 | 12 CFR Part 208, Subpart D [Reg. H]; 12 CFR Part 263, Subpart H | 12 CFR Part 325, Subpart B | 12 CFR Part 6; 12 CFR 165.8;12 CFR 165.9 | 12 CFR Part 390, Subpart Y | 12 CFR Part 208, Subpart D [Reg. H]; 12 CFR Part 263, Subpart H.
OCC Regulations
Annual Stress Tests | 12 CFR Part 46 |  |  | 12 CFR Part 46 |  |
Board Regulations
Capital Planning |  |  |  |  |  | 12 CFR Part l225.8 [Reg. Y].
Stress Tests—U.S. Organizations Company Run and Supervisory |  | 12 CFR Part 252, Subparts B, E, and F [Reg. YY] |  |  |  | 12 CFR Part 252, Subparts B, E, and F [Reg. YY]. 12 CFR Part 252, Subpart B [Reg. YY].
FDIC Regulations
Annual Stress Tests |  |  | 12 CFR Part 325, Subpart C |  | 12 CFR Part 325, Subpart C |
6. Community Reinvestment Act
All rules under this category were included in the charts published in the First Notice.
7. Consumer Protection
All rules under this category were included in the charts published in the First Notice.
8. Directors, Officers, and Employees
All rules under this category were included in the charts published in the First Notice.
9. Money Laundering
All rules under this category were included in the charts published in the First Notice.
10. Rules of Procedure
FDIC Regulations
Orderly Liquidation Authority |  |  |  |  |  | 12 CFR Part 380. 12 CFR Part 380.
11. Safety and Soundness
Interagency Regulations
Appraisals: Higher-priced Mortgages | 12 CFR Part 34, Subpart G | 12 CFR 226.43;12 CFR Part 226, Appx. N and O, and Supp. I [Reg. Z] | 12 CFR Part 1026 [Reg. Z] | 12 CFR Part 34, Subpart G |  | 12 CFR 226.43; 12 CFR Part 226, Appx. N and O, and Supp. I [Reg. Z]. 12 CFR 226.43; 12 CFR Part 226, Appx. N and O, and Supp. I [Reg. Z].
Credit Risk Retention | 12 CFR Part 43 | 12 CFR Part 244 [Reg. RR] | 12 CFR Part 373 | 12 CFR Part 43 | 12 CFR Part 373 | 12 CFR Part 244 [Reg. RR]. 12 CFR Part 244 [Reg. RR].
Liquidity Risk | 12 CFR Part 50 | 12 CFR Part 249 [Reg. WW] | 12 CFR Part 329 | 12 CFR Part 50 | 12 CFR Part 329 | 12 CFR Part 249[Reg. WW]. 12 CFR Part 249 [Reg. WW].
Resolution Plans |  |  |  |  |  | 12 CFR Part 381; 12 CFR Part 243 [Reg. QQ].
FDIC Regulations
Resolution Plans | 12 CFR Part 360.10 | 12 CFR Part 360.10 | 12 CFR Part 360.10 | 12 CFR Part 360.10 | 12 CFR Part 360.10 |
OCC Regulations
Heightened Expectations Guidelines | 12 CFR Part 30, Appx. D |  |  | 12 CFR Part 30, Appx. D |  |
Board Regulations
Appraisals: Appraiser Independence |  | 12 CFR 226.42;12 CFR Part 226, Supp. I [Reg. Z] | 12 CFR Part 1026 [Reg. Z] |  |  | 12 CFR 226.42; 12 CFR Part 226, Supp. I [Reg. Z]. 12 CFR 226.42; 12 CFR Part 226, Supp. I [Reg. Z].
Definitions related to the Financial Stability Oversight Council |  |  |  |  |  | 12 CFR Part 242 [Reg. PP].
Enhanced Prudential Standards Risk Committee Requirement (for certain BHCs) Standards for BHCs with consolidated assets $50 billion or more |  |  |  |  |  | 12 CFR Part 252, Subparts B and C [Reg. YY].
Financial Market Utilities |  | 12 CFR Part 234 [Reg. HH] |  |  |  |
Securities Holding Companies |  |  |  |  |  | 12 CFR Part 241 [Reg. OO].
12. Securities
All rules under this category were included in the charts published in the First Notice.

⁹ Regulations for which rulemaking authority has transferred to the CFPB are not included in this Consumer Protection category. As described in the Supplementary Information section of this notice, the CFPB is required to review its significant rules and publish a report of its review no later than five years after they take effect, in a process separate from the EGRPRA process.

Dated: May 27, 2015.
Thomas J. Curry,
Comptroller of the Currency.
By order of the Board of Governors of the Federal Reserve System, May 29, 2015.
Michael Lewandowski,
Associate Secretary of the Board.
Dated: May 29, 2015.
By order of the Board of Directors.
Federal Deposit Insurance Corporation.
Robert E. Feldman,
Executive Secretary.

[FR Doc. 2015-13749 Filed 6-4-15; 8:45 am]

BILLING CODE P